DEPARTMENT OF ENERGY

Electricity Advisory Committee; Meeting

AGENCY: Office of Electricity, Department of Energy.

ACTION: Notice of open meeting.

SUMMARY: This notice announces a meeting of the Electricity Advisory Committee. The Federal Advisory Committee Act (FACA) requires that public notice of these meetings be announced in the Federal Register.

DATES:

Wednesday, February 26, 2019; 12:00 p.m.-6:00 p.m. EST

Thursday, February 27, 2019; 8:00 a.m.-12:15 p.m. EST

ADDRESSES: National Rural Electric Cooperative Association, First Floor Conference Room, 4301 Wilson Blvd., Arlington, Virginia 22203 (Ballston Metro Stop).

FOR FURTHER INFORMATION CONTACT: Christopher Lawrence, Designated Federal Officer, Office of Electricity, U.S. Department of Energy, Forrestal Building, Room 8G-017, 1000 Independence Avenue SW, Washington, DC 20585; Telephone: (202) 586-5260 or Email: Christopher.lawrence@hq.doe.gov.

SUPPLEMENTARY INFORMATION: Purpose of the Committee: The Electricity Advisory Committee (EAC) was established in accordance with the provisions of the Federal Advisory Committee Act (FACA), to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

February 26, 2020

12:00 p.m.-1:00 p.m. Registration

1:00 p.m.-1:20 p.m. Welcome, Introductions, Developments since the October 2019 Meeting

1:20 p.m.-1:40 p.m. Update on Office of Electricity Programs and Initiatives

1:40 p.m.-2:00 p.m. Update from Federal Energy Regulatory Commission

2:10 p.m.-2:30 p.m. Overview of Grid Modernization Laboratory Consortium (GMLC) Goals, Capacity, and Capabilities

2:30 p.m.-2:45 p.m. Break

2:45 p.m.-3:15 p.m. Overview of Grid Modernization Laboratory Consortium (GMLC) Advanced Sensors and Data Analytics Portfolio and Goals

3:15 p.m.-4:00 p.m. Select Advanced Sensors and Data Analytics Project Presentations

4:00 p.m.-4:15 p.m. Break

4:15 p.m.-5:45 p.m. Moderated Roundtable Discussion Between DOE, GMLC, and EAC Regarding Advanced Sensors and Data Analytics Portfolio

5:45 p.m.-6:00 p.m. Wrap-up and Adjourn Day 1

February 27, 2020

8:00 a.m.-8:10 a.m. Day 2 Opening Remarks

8:10 a.m.-8:40 a.m. Overview of the U.S. Department of Energy's Energy Storage Grand Challenge Structure

8:40 a.m.-9:40 a.m. Moderated Discussion of Technology Development Track

9:40 a.m.-10:00 a.m. Break

10:00 a.m.-11:00 a.m. Moderated Discussion of Policy and Valuation Track

11:00 a.m.-11:15 a.m. Break

11:15 a.m.-11:30 a.m. Energy Storage Subcommittee Update

11:30 a.m.-11:45 a.m. Smart Grid Subcommittee Update

11:45 a.m.-12:00 p.m. Public Comments

12:00 p.m.-12:15 p.m. Wrap-up and Adjourn

The meeting agenda may change to accommodate EAC business. For EAC agenda updates, see the EAC website at: http://energy.gov/oe/services/electricity-advisory-committee-eac.

Public Participation: The EAC welcomes the attendance of the public at its meetings, no advanced registration is required. Individuals who wish to offer public comments at the EAC meeting may do so on Thursday, February 27, but must register at the registration table in advance. Approximately 15 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee Open Meeting,” to Christopher Lawrence at (202) 586-1472 (Fax) or email: Christopher.lawrence@hq.doe.gov.

Minutes: The minutes of the EAC meeting will be posted on the EAC web page at http://energy.gov/oe/services/electricity-advisory-committee-eac. They can also be obtained by contacting Mr. Christopher Lawrence at the address above.

Signed in Washington, DC, on January 23, 2020.
LaTanya Butler,
Deputy Committee Management Officer.

[FR Doc. 2020-01430 Filed 1-27-20; 8:45 am]

BILLING CODE 6450-01-P